DEPARTMENT OF COMMERCE

National Oceanic and Atmospheric Administration

RIN 0648-XG148

New England Fishery Management Council; Public Meeting

AGENCY: National Marine Fisheries Service (NMFS), National Oceanic and Atmospheric Administration (NOAA), Commerce

ACTION: Notice; public meeting.

SUMMARY: The New England Fishery Management Council (Council) is scheduling a public meeting of its Fishery Data for Stock Assessment Working Group to consider actions affecting New England fisheries in the exclusive economic zone (EEZ). Recommendations from this group will be brought to the full Council for formal consideration and action, if appropriate.

DATES: This meeting will be held on Thursday, April 26, 2018 at 10 a.m.

ADDRESSES:

Meeting address: The meeting will be held at the School for Marine Science and Technology (UMASS Dartmouth), 836 South Rodney French Boulevard, New Bedford, MA 02744; telephone: (508) 999-8193.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Fishery Data for Stock Assessment Working Group will start the meeting with welcoming and introductions as this is the first meeting of this working group. The group will review working group objectives and timeline. They will begin discussions on how the working group can meet the objective of how fishery dependent data can be used to inform stock abundance. The group will also identify work to address the four main deliverables. Other business may be discussed if necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: April 6, 2018.
Tracey L. Thompson,
Acting Deputy Director, Office of Sustainable Fisheries, National Marine Fisheries Service.

[FR Doc. 2018-07469 Filed 4-10-18; 8:45 am]

BILLING CODE 3510-22-P